DEPARTMENT OF THE INTERIOR

National Park Service

Tallgrass Prairie National Preserve Advisory Committee; Notice of Public Meeting

AGENCY: National Park Service, Tallgrass Prairie National Preserve Advisory Committee, Department of the Interior.

ACTION: Notice of meeting.

SUMMARY: Notice is hereby given that a meeting of the Tallgrass Prairie National Preserve Advisory Committee (the Committee) will be held on Friday, February 8, 2008, at 9:30 a.m. at the Chase County Community Building, Swope Park, 1715 RD 210, Cottonwood Falls, Kansas.

The primary purpose of the meeting will be to receive Committee input on the Environmental Assessment, General Management Plan Revision/Site Development Study for New Visitor Center, Administrative, and Maintenance Facilities and to discuss other current and future topics concerning the preserve.

The meeting will be open to the public. Any person may file with the Committee a written statement concerning the matters to be discussed. Persons who wish to file a written statement or testify at the meeting or who want further information concerning the meeting may contact Superintendent Stephen T. Miller at (620) 273-6034.

DATES: February 8, 2008, at 9:30 a.m.

ADDRESSES: Chase County Community Building, Swope Park, 1715 RD 210, Cottonwood Falls, Kansas.

FOR FURTHER INFORMATION CONTACT: Superintendent Stephen T. Miller, (620) 273-6034.

SUPPLEMENTARY INFORMATION: The Committee was established by Public Law 104-333 to advise the Secretary of the Interior and the Director of the National Park Service concerning the development, management, and interpretation of the Tallgrass Prairie National Preserve.

Stephen T. Miller,
Superintendent, Tallgrass Prairie National Preserve.

[FR Doc. E7-24845 Filed 12-20-07; 8:45 am]

BILLING CODE 4312-BE-P